DEPARTMENT OF EDUCATION

Office of Special Education Programs; State Personnel Development Grants Program

AGENCY: Office of Special Education and Rehabilitative Services, Department of Education.

ACTION: Notice of proposed priority for State Personnel Development Grants Program.

SUMMARY: The Assistant Secretary for Special Education and Rehabilitative Services proposes a funding priority for the Office of Special Education Programs—State Personnel Development Grants Program authorized under the Individuals with Disabilities Education Act (IDEA). This priority may be used for competitions in fiscal year (FY) 2006 and later years. We take this action to focus attention on an identified national need to assist State educational agencies (SEAs) improving their systems for personnel preparation and professional development in early intervention, educational, and transition services in order to improve results for children with disabilities; to promote the professional development of personnel as defined in section 651(b) of the IDEA to ensure that they have the knowledge and skills to deliver scientifically based instruction; and to recruit, and retain highly qualified special education teachers in accordance with section 602(10) and section 612(a)(14) of the IDEA.

DATES: We must receive your comments on or before April 3, 2006.

ADDRESSES: Address all comments about this proposed priority to Larry Wexler, U.S. Department of Education, 400 Maryland Avenue, SW., Room 4019, Potomac Center Plaza, Washington, DC 20204-2700. If you prefer to send your comments through the Internet, use the following address: larry.wexler@ed.gov.

FOR FURTHER INFORMATION CONTACT: Larry Wexler. Telephone: (202) 245-7571.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 4019, 550 12th Street, SW., Potomac Center Plaza, Washington, DC, between the hours of 8:30 a.m. and 4 p.m., eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Proposed Priority

State Personnel Development Grants (SPDG)

Background of Proposed Priority

Research shows that teacher quality is strongly correlated with student academic achievement and that effective teachers are key to improving student outcomes. High quality, comprehensive professional development programs are essential to ensuring that personnel responsible for providing early intervention, education, and transition services to children with disabilities possess the knowledge and skills necessary to address their particular needs. The Department also believes that Federal support provided under the IDEA should be targeted to those educational programs, activities, and strategies that have been demonstrated through rigorous scientific research to be effective and have a proven track record of success. Many schools have experimented with lessons and materials that have proven to be ineffective at the expense of their students.

The State Personnel Development Grants program provides a vehicle for helping States ensure that SEAs and LEAs take steps to recruit, hire, and retain highly qualified special education teachers and that the professional development of special education teachers and other personnel is aimed at providing them with the knowledge and skills to deliver scientifically based instruction that is likely to improve outcomes for children with disabilities.

Proposed Priority

The Assistant Secretary proposes a priority to assist SEAs in reforming and improving their personnel preparation and professional development systems for teachers, principals, administrators, related services personnel, paraprofessionals, and early intervention personnel. The intent of the priority is to improve educational results for children with disabilities through the delivery of high quality instruction and the recruitment, hiring, and retention of highly qualified special education teachers.

In order to meet this priority an applicant must demonstrate that the project for which it seeks funding: (1) Provides professional development activities that improve the knowledge and skills of personnel as defined in section 651(b) of the IDEA in delivering scientifically based instruction to meet the needs of, and improve the performance and achievement of infants, toddlers, preschoolers, and children with disabilities; (2) implements practices to sustain the knowledge and skills of personnel who have received training in scientifically based instruction; and (3) implements strategies that are effective in promoting the recruitment, hiring, and retention of highly qualified special education teachers in accordance with section 602(10) and section 612(a)(14) of the IDEA.

Projects funded under this priority also must:

(a) Budget for a three-day Project Directors' meeting in Washington, DC during each year of the project;

(b) Budget $4,000 annually for support of the State Personnel Development Program Web site currently administered by the University of Oregon (http://www.signetwork.org); and

(c) If a project receiving assistance under this program authority maintains a Web site, include relevant information and documents in a form that meets a government or industry-recognized standard for accessibility.

Executive Order 12866

This notice of proposed priority has been reviewed in accordance with Executive Order 12866. Under the terms of the order, we have assessed the potential costs and benefits of this regulatory action.

The potential costs associated with this notice are those resulting from statutory requirements and those we have determined as necessary for administering this program effectively and efficiently.

In assessing the potential costs and benefits—both quantitative and qualitative—of the actions proposed in this notice, we have determined that the benefits of the proposed priority justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.htm.

Program Authority: 20 U.S.C. 1451-1455.

Dated: February 27, 2006.
John H. Hager,
Assistant Secretary for Special Education and Rehabilitative Services.

[FR Doc. E6-3006 Filed 3-1-06; 8:45 am]

BILLING CODE 4000-01-P